NUCLEAR REGULATORY COMMISSION

[NRC-2013-0256]

Agency Information Collection Activities: Proposed Collection; Comment Request

AGENCY: Nuclear Regulatory Commission.

ACTION: Proposed collection; request for comment.

SUMMARY: The U.S. Nuclear Regulatory Commission (NRC) invites public comment about our intention to request the Office of Management and Budget's (OMB's) approval for renewal of an existing information collection that is summarized below. We are required to publish this notice in the Federal Register under the provisions of the Paperwork Reduction Act of 1995 (44 U.S.C. Chapter 35).

Information pertaining to the requirement to be submitted:

1. The title of the information collection: NRC Nuclear Education Grantee Survey.

2. Current OMB approval number: 3150-XXXX.

3. How often the collection is required: Once every 5 years.

4. Who is required or asked to report: NRC Grantees.

5. The number of annual respondents: 60.

6. The number of hours needed annually to complete the requirement or request: 45 hours.

7. Abstract: The NRC seeks to conduct a survey of grantees funded between 2007 and 2011 under NRC's Nuclear Education Grants. The survey will allow the NRC to collect information that is not otherwise available from all grantees to assess the impact of these funds on grantee programs, their faculty, and their students.

Submit, by February 3, 2014, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied, for a fee, publicly available documents, including the draft supporting statement, at the NRC's Public Document Room, Room O-1F21, One White Flint North, 11555 Rockville Pike, Rockville, Maryland. Office of Management and Budget clearance requests are available at http://www.nrc.gov/public-involve/doc-comment/omb/. The document will be available on the NRC's public Web site for 60 days after the signature date of this notice. Comments submitted in writing or in electronic form will be made available for public inspection. Because your comments will not be edited to remove any identifying or contact information, the NRC cautions you against including any information in your submission that you do not want to be publicly disclosed. Comments submitted should reference Docket ID NRC-2013-0256. You may submit your comments by any of the following methods: Electronic comments: Go to http://www.regulations.gov and search for Docket ID NRC-2013-0256. Mail comments to NRC Clearance Officer, Tremaine Donnell (T-5 F53), U.S. Nuclear Regulatory Commission, Washington, DC 20555-0001. Questions about the information collection requirements may be directed to the NRC Clearance Officer, Tremaine Donnell (T-5 F53), U.S. Nuclear Regulatory Commission, Washington, DC 20555-0001, by telephone at 301-415-6258, or by email to INFOCOLLECTS.Resource@NRC.GOV.

Dated at Rockville, Maryland, this 29th day of November, 2013.
For the Nuclear Regulatory Commission.
Tremaine Donnell,
NRC Clearance Officer, Office of Information Services.

[FR Doc. 2013-29048 Filed 12-4-13; 8:45 am]

BILLING CODE 7590-01-P